SECURITIES AND EXCHANGE COMMISSION

[OMB Control No. 3235-; SEC File No.—270-577]

Proposed Collection; Comment Request

Upon Written Request, Copies Available From: Securities and Exchange Commission, Office of Filings and Information Services, Washington, DC 20549

XBRL Voluntary Program Questionnaire

Notice is hereby given that pursuant to the Paperwork Reduction Act of 1995 (44 U.S.C. 3501 et seq.) the Securities and Exchange Commission (“Commission”) is soliciting comments on the collection of information summarized below. The Commission plans to submit the proposed collection of information, the XBRL Voluntary Program Questionnaire, to the Office of Management and Budget for approval.

The XBRL Voluntary Program Questionnaire consists mainly of questions based on the respondent's experience with submitting eXtensible Business Reporting Language (“XBRL”) tagged data to the Commission on a voluntary basis as a supplemental exhibit to specified filings under the Securities Exchange Act of 1934 (15 U.S.C. 78a et seq.) and Investment Company Act of 1940 (15 U.S.C. 80a-1 et seq.).

The Commission needs the information to learn about the voluntary program from the participant perspective. Responses to the questionnaire are voluntary and will be publicly available. The Commission plans to use the information to help it assess the feasibility and desirability of using tagged data on a more widespread and, possibly, mandated, basis in the future. In addition, the information may also be used by the Commission or its staff in connection with public analyses of the responses. The likely respondents to the questionnaire are the participants in the voluntary program.

We estimate that 80 respondents will take 4 hours per response for a total reporting burden of 320 hours.

Written comments are invited on: (a) Whether the proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, C/O Shirley Martinson, 6432 General Green Way, Alexandria, Virginia 22312; or send an e-mail to: PRA_Mailbox@sec.gov.

Dated: April 12, 2007.
Florence E. Harmon,
Deputy Secretary.

[FR Doc. E7-7488 Filed 4-19-07; 8:45 am]

BILLING CODE 8010-01-P